ENVIRONMENTAL PROTECTION AGENCY

40 CFR Part 52

[EPA-R06-OAR-2011-0494; FRL-9808-1]

Approval and Promulgation of Air Quality Implementation Plans; Texas; Revisions to Control of Air Pollution From Nitrogen Compounds From Stationary Sources

AGENCY: Environmental Protection Agency (EPA).

ACTION: Proposed rule.

SUMMARY: The EPA is proposing to approve revisions to the Texas State Implementation Plan (SIP), 30 TAC, Chapter 117 Control of Air Pollution from Nitrogen Compounds. These revisions concern two separate actions. First, we are proposing to approve revisions to Texas SIP, Chapter 117 emissions specifications for lean burn engines fired on landfill or other biogas at minor sources of Nitrogen Oxides (NOX). Second, we are proposing to approve revisions to Texas SIP, Chapter 117 to include low temperature drying and curing ovens used in wet-laid non-woven fiber mat manufacturing operations when nitrogen containing resins or other additives are used. These two actions affect NOX sources operating in the Dallas Fort-Worth 1997 8-hour ozone nonattainment area. The EPA is approving these two actions pursuant to section 110 of the Federal Clean Air Act.

DATES: Written comments must be received on or before June 5, 2013.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Mr. Alan Shar, Air Planning Section (6PD-L), telephone 214-665-6691; fax number 214-665-7263; email address shar.alan@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives an adverse comment on an amendment, paragraph, or section of this rule and if that provision may be severed from the remainder of the rule, EPA may adopt as final those provisions of the rule that are not the subject of an adverse comment.

For additional information, see the direct final rule, which is located in the rules section of this Federal Register.

Dated: April 19, 2013.
Ron Curry,
Regional Administrator, Region 6.

[FR Doc. 2013-10559 Filed 5-3-13; 8:45 am]

BILLING CODE 6560-50-P